DEPARTMENT OF DEFENSE

Department of the Army

[Docket ID: USA-2010-0018]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action will be effective without further notice on August 25, 2010 unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on July 2, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: July 21, 2010.
Mitchell S. Bryman,
Alternate OSD Federal Register Liaison Officer, Department of Defense.

A0385-10 IMCOM

System name:

Army IMCOM Registration System (AIRS).

System location:

Installation Management Command (IMCOM), Safety Office, 2511 Jefferson Davis Highway, Arlington, VA 22202-3926.

Categories of individuals covered by the system:

Department of Defense (Army, Navy, Air Force, Marines, Army Reserve, Army National Guard) military personnel and family members; military retirees and family members; and Department of the Army civilians.

Categories of records in the system:

Name, last four digits of the Social Security Number (SSN), date of birth, grade/rank, military status, Unit Identification Code (UIC), e-mail address, primary phone, mailing address, personnel status, and duty station location.

Authority for the maintenance of the system:

5 U.S.C. 301, Departmental Regulations; 10 U.S.C. 3013, Secretary of the Army; DoD Instruction 6055.04, DoD Traffic Safety Program; Army Regulation 385-10, The Army Safety Program; DA Pam 385-10, Army Safety Program; Executive Order 12196, Occupational Safety and Health Programs for Federal Employees; and E.O. 9397, as amended.

Purpose(s):

The system is designed to assist Army IMCOM in collecting, storing, maintaining data and reporting on Army Traffic Safety Training Program (ATSTP) course offerings and registrations.

Routine uses of records maintained in the system, including categories of users and the purposes of such uses:

In addition to those disclosures generally permitted under 5 U.S.C. 522a(b) of the Privacy Act of 1974, these records contained are not generally disclosed outside the DoD.

Policies and practices for storing, retrieving, accessing, retaining, and disposing of records in the system:

Storage:

Electronic storage media.

Retrievability:

Last name, first name and/or last four digits of Social Security Number (SSN).

Safeguards:

The system records are maintained in fail-safe system software with password-protected access. Records are accessible only to authorized persons with a need to know. Proper screening, clearing and training is accomplished prior to issuance of user ID and password.

Retention and disposal:

Records are maintained for 5 years, then destroyed by erasing.

System manager(s) and address:

Installation Management Command, Safety Office, 2511 Jefferson Davis Highway, Arlington, VA 22202-3926.

Notification procedure:

Individuals seeking to determine whether information about themselves is contained in this system of records should address written inquiries to the Installation Management Command, Garrison Safety Office at the installation or activity where assigned.

All written inquiries should provide the full name, last four digits of Social Security Number (SSN), date of birth, military status and current mailing address and any details which may assist in locating record, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to determine whether information about themselves is contained in this system should address written inquiries to the Installation Management Command, Installation Safety Office at the installation or activity where assigned.

All written inquiries should provide the full name, last four digits of Social Security Number (SSN), date of birth, military status and current mailing address and any details which may assist in locating record, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, and for contesting contents and appealing initial agency determinations are contained in AR 340-21; 32 CFR part 505 or may be obtained from the system manager.

Record source categories:

Records are manually entered into the system by individuals through the use of web forms.

Exemptions claimed for the system:

None.

[FR Doc. 2010-18248 Filed 7-23-10; 8:45 am]

BILLING CODE 5001-06-P